NUCLEAR REGULATORY COMMISSION

[Docket No. 50-00288; NRC-2020-0060]

In the Matter of Reed College, Reed Research Reactor, Portland, Oregon

AGENCY: Nuclear Regulatory Commission.

ACTION: Confirmatory Order; issuance.

SUMMARY: The U.S. Nuclear Regulatory Commission (NRC) is issuing a Confirmatory Order (CO) to Reed College, Portland, Oregon as a result of a successful alternative dispute resolution (ADR) mediation session held on January 23, 2020. The CO confirms commitments agreed to during the ADR mediation and, based on the completion of the actions described in the CO, the NRC agrees to not pursue any further enforcement action for the apparent violations identified in the NRC's November 19, 2019, letter to Reed College, and will not issue a Notice of Violation or seek to impose civil penalties in connection with the apparent violations. The Order is effective on the date of issuance.

DATES: The Order was issued on March 16, 2020.

ADDRESSES: Please refer to Docket ID NRC-2020-0060 when contacting the NRC about the availability of information regarding this document. You may obtain publicly-available information related to this document using any of the following methods:

• Federal Rulemaking Website: Go to https://www.regulations.gov and search for Docket ID NRC-2020-0060. Address questions about NRC docket IDs in Regulations.gov to Jennifer Borges; telephone: 301-287-9127; email: Jennifer.Borges@nrc.gov. For technical questions, contact the individual(s) listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Robert Fretz, Office of Enforcement, U.S. Nuclear Regulatory Commission, Washington, DC 20555-0001; telephone: 301-287-9235, email: Robert.Fretz@nrc.gov.

SUPPLEMENTARY INFORMATION: The text of the Order is attached.

Dated at Rockville, Maryland, this 17th day of March 2020.
For the Nuclear Regulatory Commission.
George A. Wilson,
Director, Office of Enforcement.

Attachment—Confirmatory Order Modifying License

United States of America Nuclear Regulatory Commission

In the Matter of Reed College, Reed Research Reactor

Docket No. 50-288

License No. R-112

EA-19-071

Confirmatory Order Modifying License Effective Upon Issuance

I

Reed College (hereafter, Reed or the licensee) holds Renewed Facility Operating License No. R-112 (Docket No. 50-288) issued on April 24, 2012, by the U.S. Nuclear Regulatory Commission (NRC or Commission) pursuant to Parts 30, 50 and 70 of Title 10 of the Code of Federal Regulations (10 CFR). The license authorizes the operation of the Reed Research Reactor (facility) in accordance with conditions specified therein. The facility is located on the Licensee's site in Portland, Oregon.

This Confirmatory Order (CO) is the result of an agreement reached during an Alternative Dispute Resolution (ADR) mediation session conducted on January 23, 2020.

II

On April 8, 2016, the NRC's Office of Investigations (OI) opened an investigation (OI Case No. 4-2016-022) at Reed to determine whether the Reed Research Reactor Director (Director) willfully documented and submitted to the NRC incomplete or inaccurate information associated with an application for a 10 CFR part 55, reactor operator license. A second investigation (OI Case No. 4-2017-023) was opened on March 28, 2017, to determine whether the Director willfully provided incomplete or inaccurate information to the NRC regarding a second application for a 10 CFR part 55 license (a senior reactor operator license). Based on the evidence developed during the two investigations, the NRC identified three apparent violations. The apparent violations involve the licensee's failure to provide information to the Commission that is complete and accurate in all material respects, in accordance with 10 CFR Section 50.9(a), “Completeness and accuracy of information,” and failure to follow NRC Order EA-07-074, “Issuance of Order Imposing Fingerprinting and Criminal History Records Check Requirements for Unescorted Access to Research and Test Reactors,” and Renewed Operating License R-112, License Condition 2.C.(3). By letter, dated November 19, 2019, Agencywide Documents Access and Management System (ADAMS) Accession No. ML19330E777, the NRC notified Reed of the results of the investigation and provided the licensee an opportunity to: (1) respond in writing to the apparent violations addressed in the letter; (2) request a predecisional enforcement conference to be held at NRC Headquarters in Rockville, MD; or (3) request ADR mediation with the NRC in an attempt to resolve any disagreements regarding whether violations occurred, appropriate enforcement actions, and appropriate corrective actions.

In response to the NRC's offer, Reed requested the use of ADR mediation to resolve differences it had with the NRC. On January 23, 2020, the NRC and the licensee met in an ADR session mediated by a professional mediator, arranged through Cornell University's Institute on Conflict Resolution. The ADR process is one in which a neutral mediator, with no decision-making authority, assists the parties in reaching an agreement on resolving any differences regarding the dispute. This CO is issued pursuant to the agreement reached during the ADR process.

III

During the ADR session, the licensee and the NRC reached a preliminary settlement agreement. The elements of the agreement include the following:

The NRC acknowledges and gives Reed credit for the following corrective actions:

1. Reed amended Standard Operating Procedure (SOP) 63, which describes what licensed operators need to do to stay in requalification, to ensure that physical examinations for operators are normally performed by a healthcare provider familiar with the applicable requirements for reactor operators, and to clarify and to reaffirm the reporting obligations of licensed operators regarding changes in medication and permanent physical or mental health conditions.

2. Reed provided training and coaching to the Director regarding the need to provide complete and accurate information on license applicants to the NRC.

3. Reed made changes to SOP 64 to empower the Director or Reactor Operations Manager (ROM) to impose an administrative hold on operator access to the facility for various reasons, including changes in medical prescriptions. In addition, Reed added a mandatory medical release form that licensed operators must sign allowing professional health and counseling center personnel to disclose any relevant health information about operators to the Director.

Additional commitments made in the preliminary settlement agreement, as signed by both parties, consist of the following (the parties agreed to the following terms and conditions to be implemented by July 1, 2020, unless otherwise noted):

A. Reed agrees to institute a new SOP provision requiring that the results from the physical examinations of operator applicants be sent to the psychologist who interprets the Minnesota Multiphasic Personality Inventory test results and/or interviews such applicants for mental fitness.

B. Reed will amend SOP 64, which covers the working environment for staff personnel with unescorted access or licensed operators, to (i) ensure that the NRC-approved reviewing official is notified when any such person takes a leave of absence (“LOA”); (ii) automatically suspend the facility and controlled area (CA) access of any such person who is on an LOA; (iii) provide email notice to staff identifying any such person who is on an LOA and specifying their change in status; and (iv) require any such person returning from an LOA to pass both a new physical and a new psychological examination before their facility and CA access status can be renewed. If absent for more than one year under favorable conditions FBI fingerprint and background checks will be conducted. If LOA is for unfavorable conditions FBI fingerprinting and background checks will be conducted regardless of length of LOA. Reasons for removal from unescorted access status must be documented and retained for three years after such person's status change.

Reed will make additional changes to SOP 64 to change the terminology so that it is the NRC-approved reviewing official who will be empowered to impose an administrative hold on operator access to the facility for various reasons, including changes in medical prescriptions.

C. Reed will amend SOP 65, which includes provisions regarding security and visitors, to include provisions similar to those in SOP 64 terminating the facility access of persons with unescorted access and licensed operators who have taken an administrative leave and giving the NRC-approved reviewing official discretion to impose an administrative hold on unescorted access to the facility.

D. To reinforce existing security requirements, Reed will further amend Section 65.9 of SOP 65 to provide that the Controlled Access List (“CAL”) and Facility Access List (“FAL”) shall be reviewed for accuracy, updated as necessary, and re-posted in copy signed and dated by the NRC-approved reviewing official at least once every thirty (30) days. In addition, Reed will amend Section 65.7.1 of SOP 65 to specifically require that personnel will not be issued keys to the Controlled Areas or Facility unless they are currently on the CAL or FAL, and to require that keys be properly logged out no matter how short the duration for which the key is being used. SOP 65 will be modified to require a new physical and psychological evaluation for operators returning from a LOA, consistent with SOP 64 and Section III.B of this Order.

E. Within 60 days of issuance of the CO, Reed will take the following additional measures to assure appropriate oversight of the Reed Research Reactor Program:

1. The president of the college, who is the individual designated as the Level 1 Unit or Organizational Head under ANSI Standard 15.4, shall, at a minimum, engage in the following oversight activities:

a. Review all outside audits and NRC inspections of the reactor program and meet with the Dean of the Faculty, the Vice-President and Treasurer, and the Director to identify and ensure implementation of appropriate corrective actions;

b. Meet on a quarterly basis with the Dean of Faculty, to ensure compliance with any outstanding corrective actions and to identify, discuss and take appropriate measures to address any existing operational, security or regulatory concerns regarding the Reed Research Reactor Program.

2. The Dean of the Faculty, who supervises the Director, shall, at a minimum, engage in the following additional oversight activities:

a. Receive copies of and review all correspondence between the Director and the NRC;

b. Review all outside audits and NRC inspections of the reactor program;

c. Ensure the receipt and transmission to the Director of responses for the required quarterly inquiries regarding the fitness for duty of each student allowed unescorted access to the facility that are made to supervisory health and counseling center personnel, Director of Community Safety or appropriate faculty members, document the responses to these emails from each department that receives such required inquiries; and document actions taken as a result of these responses. These responses and actions taken shall be made available for NRC review upon request. Additionally, Reed shall update the Reed Reactor Security Plan to fully document the request, response, and resolution processes of this quarterly action.

d. Meet on a monthly basis with the Director to ensure compliance with any outstanding corrective actions and to identify, discuss and take appropriate measures to address any existing operational, security or regulatory concerns regarding the Reactor Program.

F. To reinforce knowledge of and compliance with requirements for medical qualifications and completeness and accuracy of reported information, Reed will take the following additional actions:

1. Within 60 days of the issuance of the CO, the Director will meet with each licensed operator regarding the facts and lessons learned from the events that gave rise to the CO. The meeting will stress the importance of reporting any physical or mental health conditions, and any changes in conditions or treatment. The meeting will also address the importance of adhering to procedure, ensuring that documents are complete and accurate, and potential consequences for engaging in willful violations. Documentation shall be kept for attendance at the meetings.

2. Reed will incorporate read and sign training on reporting physical or mental health conditions, and any changes in conditions or treatment, into reactor operator applicant training and requalification training. This training will also address the importance of adhering to procedures, ensuring that documents are complete and accurate, and potential consequences for engaging in willful violations.

3. Reed will conduct training for all professional staff in the health and counseling center on the physical and mental health condition requirements and the reporting obligations for reactor operators. After July 1, 2020 all new professional employees will receive this training as part of orientation. This training will also address the importance of adhering to procedure, ensuring that documents are complete and accurate, and potential consequences for engaging in willful violations.

4. Reed will submit a presentation for consideration to be included in the 2020 TRTR annual conference.

a. By July 1, 2020, Reed will submit a draft of the presentation to the Director, Division of Advanced Reactors and Non-power Production and Utilization Facilities, for review.

b. The presentation will summarize the conditions leading to the CO that existed at Reed and emphasize the need for research and test reactor (RTR) licensees to be complete and accurate in the submission of license applications and in all other dealings with the NRC.

c. The presentation will also include lessons-learned regarding EA-19-071.

d. Within 15 calendar days of the NRC's receipt of the presentation submitted by Reed, the NRC will provide its comments, if any, to the licensee.

5. By June 1, 2020, Reed will submit an article to be considered for inclusion in the TRTR newsletter.

a. By May 1, 2020, Reed will submit a draft of the article to the Director, Division of Advanced Reactors and Non-power Production and Utilization Facilities, for review.

b. The article will summarize the conditions leading to the confirmatory order that existed at Reed and emphasize the need for RTR licensees to be complete and accurate in the submission of license applications and in all other dealings with the NRC.

c. The article will also include lessons-learned regarding EA-19-071.

d. Within 15 calendar days of the NRC's receipt of the draft article submitted by Reed, the NRC will provide its comments, if any, to Reed College.

G. Beyond the foregoing actions, Reed will also implement a new SOP 68 specifically addressing the hiring, training and licensing of reactor operators. This new SOP 68 shall, at a minimum, require:

1. The formation of a review committee of appropriate personnel, including the Director, ROM, Reactor Safety Officer (“RSO”), and one non-Reed member of the Reactor Operations Committee, to review and evaluate documents submitted to the NRC to ensure that each reactor operator license application (whether for initial qualification or requalification of a reactor operator or senior reactor operator license) is complete and fully supported by the required documentation.

2. The preservation of documents supporting each reactor operator license application, including (i) security information for each applicant; (ii) all medical and/or psychological information (which shall be preserved in accordance with applicable legal privacy requirements); and (iii) all submissions to the NRC relating to any specific operator license application. Such documents shall be preserved consistent with NRC requirements.

3. The succinct and accurate documentation of the reasons underlying any determinations to limit facility or CA access of a staff person or licensed operator in connection with a leave of absence or administrative hold and whether and why the NRC was or was not notified of the determination.

4. Read and sign training materials on reporting physical or mental health conditions, and any changes in conditions or treatment, as noted in Section III.F above.

H. To further assure overall compliance, Reed will also expand its existing external audit procedures so that, starting in the audit year 2020, each such audit will include a review of all reactor operators' medical and psychological records and the reporting of those records to the NRC.

1. The initial external audit following the issuance of the confirmatory order will cover medical and security records for the previous 5 years and operations for the prior year. Subsequent audits will cover back to the last audit.

2. The external auditor shall not have been a Reed employee for at least three years. The external auditor(s) shall be experienced in medical, security and operations.

I. Reed will provide notice to the Director, Division of Advanced Reactors and Non-power Production and Utilization Facilities, NRR, that it has completed the measures specified in the paragraphs above.

Based on the completed actions described above, and the commitments described in Section V below, the NRC agrees to not pursue any further enforcement action based on the apparent violations identified in the NRC's November 19, 2019, letter to Reed, and will not issue a Notice of Violation or seek to impose civil penalties in connection with the apparent violations. The NRC and Reed also agree to disagree regarding the willfulness of the apparent violations described in the November 19, 2019, letter.

Additionally, as part of its deliberations and consistent with the philosophy of the Enforcement Policy, Section 3.3, “Violations Identified Because of Previous Enforcement Action,” the NRC will consider enforcement discretion for violations with similar root causes that occur prior to or during implementation of the corrective actions specified in this CO.

In the event of the transfer of the operating license of Reed Research Reactor to another entity, the terms and conditions set forth hereunder shall continue to apply to the Reed Research Reactor and accordingly survive any transfer of ownership or license.

On February 24, 2020, Reed consented to issuing this CO with the commitments, as described in Section V below. Reed further agreed that this CO is to be effective upon issuance, the agreement memorialized in this CO settles the matter between the parties, and that it has waived its right to a hearing.

IV

I find that Reed's actions completed, as described in Section III above, combined with the commitments as set forth in Section V are acceptable and necessary, and conclude that with these commitments the public health and safety are reasonably assured. In view of the foregoing, I have determined that public health and safety require that Reed's commitments be confirmed by this CO. Based on the above and Reed's consent, this CO is effective upon issuance.

By no later than thirty (30) days after the completion of the commitments specified in Section V, Reed is required to notify the NRC in writing and summarize its actions.

V

Accordingly, pursuant to Sections 104c, 161b, 161i, 161o, 182 and 186 of the Atomic Energy Act of 1954, as amended, and the Commission's regulations in 10 CFR 2.202 and 10 CFR parts 30, 50 and 70, It is Hereby Ordered, Effective Upon Issuance, that License No. R-112 is Modified as Follows:

A. Reed agrees to institute a new SOP provision requiring that the results from the physical examinations of operator applicants be sent to the psychologist who interprets the Minnesota Multiphasic Personality Inventory test results and/or interviews such applicants for mental fitness.

B. Reed will amend SOP 64, “Work Environment,” which covers the working environment for Reed Research Reactor personnel with unescorted access or licensed operators, to (i) ensure that the NRC-approved reviewing official is notified when any such person takes a leave of absence (“LOA”); (ii) automatically suspend the facility and controlled area (CA) access of any such person who is on an LOA; (iii) provide email notice to other Reed Research Reactor personnel with unescorted access or licensed operators identifying any such person who is on an LOA and specifying their change in status; and (iv) require any such person returning from an LOA to pass both a new physical and a new psychological examination before their facility and CA access status is renewed. If absent for more than one year under favorable conditions, Federal Bureau of Investigation (FBI) fingerprint and background checks will be conducted. If LOA is for unfavorable conditions, FBI fingerprinting and background checks will be conducted regardless of length of LOA. Reasons for removal from unescorted access status must be documented and retained for three years after such person's status change.

Reed will make additional changes to SOP 64 to change the terminology so that it is the NRC-approved reviewing official who will be empowered to impose an administrative hold on operator access to the facility for various reasons, including changes in medical prescriptions.

C. Reed will amend SOP 65, “Security and Visitors,” which includes provisions regarding security and visitors, to include provisions similar to those in SOP 64 terminating the facility access of persons with unescorted access and licensed operators who have taken an administrative leave and giving the NRC-approved reviewing official discretion to impose an administrative hold on unescorted access to the facility.

D. To reinforce existing security requirements, Reed will further amend Section 65.9, “Unescorted Entry,” of SOP 65 to provide that the Controlled Access List (“CAL”) and Facility Access List (“FAL”) shall be reviewed for accuracy, updated as necessary, and re-posted in a hardcopy format that is signed and dated by the NRC-approved reviewing official at least once every thirty (30) days. In addition, Reed will amend Section 65.7.1 (General Security Guidance) of SOP 65 to specifically require that personnel will not be issued keys to the CA or Facility unless they are currently on the CAL or FAL, and to require that keys be properly logged in and out no matter how short the duration for which the key is being used. SOP 65 will be modified to require a new physical and psychological evaluation for operators returning from a LOA, consistent with SOP 64 and Section V.B of this CO.

E. Within 60 days of issuance of the CO, Reed will take the following additional measures to assure appropriate oversight of the Reed Research Reactor Program:

1. The president of Reed, who is the individual designated as the Level 1 Unit or Organizational Head under American National Standards Institute/American Nuclear Society, ANSI/ANS 15.4-1988 (R1999), “Standard for the Selection and Training of Personnel for Research Reactors,” shall, at a minimum, engage in the following oversight activities:

a. Review all outside audits and NRC inspections of the reactor program and meet with the Dean of the Faculty, the Vice-President and Treasurer, and the Director to identify and ensure implementation of appropriate corrective actions;

b. Meet on a quarterly basis with the Dean of the Faculty to ensure compliance with any outstanding corrective actions and to identify, discuss, and take appropriate measures to address any existing operational, security, or regulatory concerns regarding the Reed Research Reactor Program.

2. The Dean of the Faculty, who supervises the Director, shall, at a minimum, engage in the following additional oversight activities:

a. Receive copies of and review all correspondence between the Director and the NRC;

b. Review all outside audits and NRC inspections of the reactor program;

c. Ensure the receipt and transmission to the Director of responses for the required quarterly inquiries regarding the fitness for duty of each student allowed unescorted access to the facility that are made to supervisory health and counseling center personnel, Director of Community Safety, or appropriate faculty members; document the responses to these emails from each department that receives such required inquiries; and document actions taken as a result of these responses. These responses and actions taken shall be made available for NRC review upon request. Additionally, Reed shall update the Reed Reactor Physical Security Plan to fully document the request, response, and resolution processes of this quarterly action.

d. Meet on a monthly basis with the Director to ensure compliance with any outstanding corrective actions and to identify, discuss, and take appropriate measures to address any existing operational, security, or regulatory concerns regarding the Reed Research Reactor Program.

F. To reinforce knowledge of and compliance with requirements for medical qualifications and completeness and accuracy of reported information, Reed will take the following additional actions:

1. Within 60 days of the issuance of the CO, the Director will meet with each licensed operator who is on campus for the current semester regarding the facts and lessons learned from the events that gave rise to the CO. For any licensed operators participating in off-campus study programs during the current semester, the Director shall hold such meetings within 30 days following their return to campus. The meeting(s) will stress the importance of reporting any physical or mental health conditions, and any changes in conditions or treatment. The meeting(s) will also address the importance of adhering to procedure, ensuring that documents are complete and accurate, and potential consequences for engaging in willful violations. Documentation shall be kept for attendance at the meeting(s).

2. Reed will incorporate training (“read and sign” training) on reporting physical or mental health conditions, and any changes in conditions or treatment, into reactor operator applicant training and requalification training. This training will also address the importance of adhering to procedures, ensuring that documents are complete and accurate, and potential consequences for engaging in willful violations. Read and sign training requires the individual(s) to sign and date a form acknowledging that they have read, understand, and agree to the policies and procedures discussed during the training.

3. Reed will conduct training for all professional staff in the health and counseling center on the physical and mental health condition requirements and the reporting obligations for reactor operators. After July 1, 2020, all new professional employees will receive this training as part of orientation. This training will also address the importance of adhering to procedure, ensuring that documents are complete and accurate, and potential consequences for engaging in willful violations.

4. Reed will submit a presentation for consideration to be included in the annual National Organization of Test, Research, and Training Reactors (TRTR) conference to be held in 2020.

a. By July 1, 2020, Reed will submit a draft of the presentation to the Director, Division of Advanced Reactors and Non-power Production and Utilization Facilities, NRR, for review.

b. The presentation will summarize the conditions leading to the confirmatory order that existed at Reed and emphasize the need for research and test reactor (RTR) licensees to be complete and accurate in the submission of license applications and in all other dealings with the NRC.

c. The presentation will also include lessons learned regarding EA-19-071.

d. Within 15 calendar days of the NRC's receipt of the presentation submitted by Reed, the NRC will provide its comments, if any, to the licensee.

5. By June 1, 2020, Reed will submit an article to be considered for inclusion in the TRTR newsletter.

a. By May 1, 2020, Reed will submit a draft of the article to the Director, Division of Advanced Reactors and Non-power Production and Utilization Facilities, NRR, for review.

b. The article will summarize the conditions leading to the confirmatory order that existed at Reed and emphasize the need for RTR licensees to be complete and accurate in the submission of license applications and in all other dealings with the NRC.

c. The article will also include lessons learned regarding EA-19-071.

d. Within 15 calendar days of the NRC's receipt of the draft article submitted by Reed, the NRC will provide its comments, if any, to Reed.

G. Beyond the foregoing actions, Reed will also implement a new SOP 68 specifically addressing the hiring, training, and licensing of reactor operators. This new SOP 68 shall, at a minimum, require:

1. The formation of a review committee of appropriate personnel, including the Director, ROM, Radiation Safety Officer, and one non-Reed member of the Reactor Operations Committee, to review and evaluate documents submitted to the NRC to ensure that each reactor operator license application (whether for initial qualification or requalification of a reactor operator or senior reactor operator license) is complete and fully supported by the required documentation.

2. The preservation of documents supporting each reactor operator license application, including (i) security information for each applicant; (ii) all medical and/or psychological information (which shall be preserved in accordance with applicable legal privacy requirements); and (iii) all submissions to the NRC relating to any specific operator license application. Such documents shall be preserved consistent with NRC requirements.

3. The succinct and accurate documentation of the reasons underlying any determinations to limit facility or CA access of staff or licensed operators in connection with an LOA or administrative hold and whether and why the NRC was or was not notified of the determination.

4. Read and sign training materials on reporting physical or mental health conditions, and any changes in conditions or treatment, as noted in Section V.F of this CO.

H. To further assure overall compliance, Reed will also expand its existing external audit procedures so that, starting in the audit year 2020, each such audit will include a review of all reactor operators' medical and psychological records and the reporting of those records to the NRC.

1. The initial external audit following the issuance of the CO will cover medical and security records for the previous five years and operations for the prior year. Subsequent audits will cover the time period dating back to the last audit.

2. The external auditor(s) shall not have been a Reed employee for at least three years. The external auditor(s) shall be experienced in NRC requirements concerning medical records, security, and operations.

I. Reed will provide notice to the Director, Division of Advanced Reactors and Non-power Production and Utilization Facilities, NRR, that it has completed the measures specified in the Section V paragraphs above.

This agreement is binding upon successors and assigns of Reed. The Director, Office of Enforcement may, in writing, relax or rescind any of the above conditions upon demonstration by Reed or its successors of good cause.

VI

In accordance with 10 CFR 2.202 and 10 CFR 2.309, any person adversely affected by this CO, other than Reed, may request a hearing within thirty (30) calendar days of the date of issuance of this CO. Where good cause is shown, consideration will be given to extending the time to request a hearing. A request for extension of time must be made in writing to the Director, Office of Enforcement, U.S. Nuclear Regulatory Commission, Washington, DC 20555, and include a statement of good cause for the extension.

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at https://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at https://www.nrc.gov/site-help/e-submittals/getting-started.html. Once a participant has obtained a digital ID certificate and a docket has been created, the participant can then submit adjudicatory documents. Submissions must be in Portable Document Format (PDF). Additional guidance on PDF submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click “cancel” when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

The Commission will issue a notice or order granting or denying a hearing request or intervention petition, designating the issues for any hearing that will be held and designating the Presiding Officer. A notice granting a hearing will be published in the Federal Register and served on the parties to the hearing.

If a person other than Reed College requests a hearing, that person shall set forth with particularity the manner in which his or her interest is adversely affected by this CO and shall address the criteria set forth in 10 CFR 2.309(d) and (f).

If a hearing request is granted to a person whose interest is adversely affected, the Commission will issue an order designating the time and place of any hearings. If a hearing is held, the issue to be considered at such hearing shall be whether this CO should be sustained.

In the absence of any request for hearing, or written approval of an extension of time in which to request a hearing, the provisions specified in Section V above shall be final 30 days from the date of this CO without further order or proceedings. If an extension of time for requesting a hearing has been approved, the provisions specified in Section V shall be final when the extension expires if a hearing request has not been received.

Dated this 16th day of March 2020.
For the Nuclear Regulatory Commission.
George A Wilson,
Director Office of Enforcement.

[FR Doc. 2020-05894 Filed 3-19-20; 8:45 am]

BILLING CODE 7590-01-P